NUCLEAR REGULATORY COMMISSION

[Docket No. 50-271; NRC-2015-0004]

Entergy Nuclear Operations, Inc., Vermont Yankee Nuclear Power Station Post-Shutdown Decommissioning Activities Report

AGENCY: Nuclear Regulatory Commission.

ACTION: Request for comment and public meeting.

SUMMARY: On December 23, 2014, the U.S. Nuclear Regulatory Commission (NRC) received the Post-Shutdown Decommissioning Activities Report (PSDAR) and the Site-Specific Decommissioning Cost Estimate (DCE) dated December 19, 2014, for the Vermont Yankee Nuclear Power Station (VY). The PSDAR, which includes the DCE, provides an overview of Entergy Nuclear Operations, Inc. (Entergy or the licensee), planned decommissioning activities, schedule, projected costs, and environmental impacts for VY. The NRC is requesting public comments on Entergy's PSDAR and DCE and will hold a public meeting to discuss the PSDAR and DCE.

DATES: Submit comments by March 23, 2015. Comments received after this date will be considered if it is practical to do so, but the NRC is able to ensure consideration only for comments received on or before this date.

ADDRESSES: You may submit comments by any of the following methods (unless this document describes a different method for submitting comments on a specific subject):

• Federal Rulemaking Web site: Go to http://www.regulations.gov and search for Docket ID NRC-2015-0004. Address questions about NRC dockets to Carol Gallagher; telephone: 301-287-3422; email: Carol.Gallagher@nrc.gov. For technical questions, contact the individual listed in the FOR FURTHER INFORMATION CONTACT section of this document.

• Mail comments to: Cindy Bladey, Office of Administration, Mail Stop: 3WFN-06-A44M, U.S. Nuclear Regulatory Commission, Washington, DC 20555-0001.

For additional direction on obtaining information and submitting comments, see “Obtaining Information and Submitting Comments” in the SUPPLEMENTARY INFORMATION section of this document.

FOR FURTHER INFORMATION CONTACT: James Kim, Office of Nuclear Reactor Regulation, U.S. Nuclear Regulatory Commission, Washington, DC 20555-0001, telephone: 301-415-4125, email: James.Kim@nrc.gov.

SUPPLEMENTARY INFORMATION:

I. Obtaining Information and Submitting Comments

A. Obtaining Information

Please refer to Docket ID NRC-2015-0004 when contacting the NRC about the availability of information for this action. You may obtain publicly-available information related to this action by any of the following methods:

• Federal Rulemaking Web site: Go to http://www.regulations.gov and search for Docket ID NRC-2015-0004.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section

• NRC's PDR: You may examine and purchase copies of public documents at the NRC's PDR, Room O1-F21, One White Flint North, 11555 Rockville Pike, Rockville, Maryland 20852.

B. Submitting Comments

Please include Docket ID NRC-2015-0004 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

Entergy is the holder of Renewed Facility Operating License No. DPR-28. The license provides, among other things, that the facility is subject to all rules, regulations, and orders of the NRC now or hereafter in effect. The facility consists of a boiling-water reactor located in Windham County, Vermont.

By letter dated September 23, 2013 (ADAMS Accession No. ML13273A204), Entergy submitted Notification of Permanent Cessation of Power Operations for VY. In this letter, Entergy provided notification to the NRC of its intent to permanently cease power operation at the end of the current operating cycle, which is expected to occur in the fourth calendar quarter of 2014. In addition, Entergy indicated their intent to supplement the letter certifying the date on which operations have ceased, or will cease, in accordance with § 50.82(a)(1)(i) of Title 10 of the Code of Federal Regulations (10 CFR) and 10 CFR 50.4(b)(8).

On December 19, 2014, Entergy submitted the PSDAR and DCE for VY in accordance with § 50.82(a)(4)(i) (ADAMS Accession No. ML14357A110). The PSDAR includes a description of the planned decommissioning activities, a proposed schedule for their accomplishment, the site-specific DCE (submitted concurrently), and a discussion that provides the basis for concluding that the environmental impacts associated with the site-specific decommissioning activities will be bounded by appropriate, previously issued generic and plant-specific environmental impact statements.

III. Request for Comment and Public Meeting

The NRC is requesting public comments on the PSDAR and DCE for VY. The NRC will conduct a public meeting to discuss the PSDAR and DCE and receive comments on Wednesday, February 19, 2015, from 6 p.m. until 9 p.m., Eastern Standard Time, at the Quality Inn, 1380 Putney Road, Brattleboro, VT 05301. For additional information regarding the meeting, see the NRC's Public Meeting Schedule Web site at http://meetings.nrc.gov/pmns/mtg. The agenda will be posted no later than 10 days prior to the meeting.

Dated at Rockville, Maryland, this 6th day of January, 2015.
For the Nuclear Regulatory Commission.
Douglas A. Broaddus,
Chief, Plant Licensing IV-2 and Decommissioning Transition Branch, Division of Operator Reactor Licensing, Office of Nuclear Reactor Regulation.

[FR Doc. 2015-00450 Filed 1-13-15; 8:45 am]

BILLING CODE 7590-01-P